DEPARTMENT OF HOMELAND SECURITY

Coast Guard

[USCG-2012-1058]

Towing Safety Advisory Committee

AGENCY: Coast Guard, DHS.

ACTION: Notice of teleconference meeting.

SUMMARY: The Towing Safety Advisory Committee (TSAC) will meet via teleconference to review and discuss draft recommendations from TSAC subcommittees on assigned tasks listed in the SUPPLEMENTARY INFORMATION section below. The committee will also discuss potential new tasks related to development of manning policy for towing vessels operating on international and domestic waters, information transfer between vessels using the automatic identification system (AIS), and plans to improve Coast Guard Form 2692 for reporting a marine accident, injury or death. This meeting will be open to the public.

DATES: The teleconference meeting will take place on Wednesday, January 16, 2013, from 10 a.m. to 4 p.m. EST. This meeting may end early if all business is finished before 4 p.m. If you wish to make oral comments at the meeting, simply notify Mr. William J. Abernathy before the meeting, as specified in the ADDRESSES section, or the designated Coast Guard staff at the meeting. If you wish to submit written comments or make a presentation, submit your comments or request to make a presentation by January 7, 2013.

ADDRESSES: The Committee will meet via teleconference. To participate by phone, contact the Alternate Designated Federal Officer (ADFO) listed below in the FOR FURTHER INFORMATION CONTACT section to obtain teleconference information. Note the number of teleconference lines is limited and will be available on a first-come, first-served basis. To join those participating in this teleconference from U.S. Coast Guard Headquarters, come to Room 2501, U.S. Coast Guard Headquarters Building, 2100 Second Street SW., Washington, DC 20593. You must present a valid, government-issued photo identification to gain entrance to the Coast Guard Headquarters building.

If you want to make an presentation, send your request by January 7, 2012, to Mr. William J. Abernathy, TSAC ADFO, telephone 202-372-1363, Commandant (CG-OES-2), 2100 Second Street SW., Stop 7126, Washington, DC 20593-7126 or by fax to 202-372-1926. To facilitate public participation we are inviting public comment on the issues to be considered by the committee as listed in the “Agenda” section below. You may submit a written comment on or before January 7, 2013 or make an oral comment during the public comment portion of the meeting.

To submit a comment in writing, use one of the following methods:

• Federal eRulemaking Portal: http://www.regulations.gov Follow the instructions for submitting comments.

• Email: William.J.Abernathy@uscg.mil Include the docket number (USCG-2012-1058) on the subject line of the message.

• Fax: (202) 372-1926 Include the docket number (USCG-2012-1058) on the subject line of the fax.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9239.

Instructions: Include the words “Department of Homeland Security” and the docket number of this notice in your submission. All comments submitted will be posted on www.regulations.gov without alteration and will contain personal information you provided. You may review a Privacy Act notice regarding our public dockets in the January 17, 2008, issue of the Federal Register (73 FR 3316).

Docket: For access to the docket to read documents or comments related to this TSAC meeting, go to www.regulations.gov, insert “USCG-2012-1058” in the “Search” box and then click “Search.”

FOR FURTHER INFORMATION CONTACT: Commander Rob Smith, USCG, TSAC Designated Federal Officer (DFO), telephone 202-372-1410, fax 202-372-1926, email Robert.L.Smith@uscg.mil or Mr. William J. Abernathy, Alternate Designated Federal Officer (ADFO), telephone 202-372-1363, fax 202-372-1926, email William.J.Abernathy@uscg.mil. If you have any questions on viewing or submitting material to the docket, call Renee V. Wright, Program Manager, Docket Operations, telephone 202-366-9826.

SUPPLEMENTARY INFORMATION: We are publishing this meeting notice under provisions of the Federal Advisory Committee Act (FACA), 5 U.S.C. App. (Pub. L. 92-463). The Towing Safety Advisory Committee provides advice and recommendations to the Department of Homeland Security on matters relating to shallow-draft inland and coastal waterway navigation and towing safety. See 33 U.S.C. 1231a.

Agenda of Meeting

The agenda for January 16, 2013 includes:

(1) Presentation and discussion of reports by the subcommittees:

(a) Prevention of Crewmember Falls Overboard (Task Statement 12-01),

(b) Voluntary Entry-Level Training Standards on Towing Vessels (Task Statement 12-02),

(c) Enhancement of Towing Vessel Operational Stability (Task Statement 12-03),

(d) Standards for Mobile Vapor Control Systems (Task Statement 12-04), and

(e) Review of Fire Casualties onboard Towing Vessels (Task Statement 12-05).

(2) Receive new tasking in the following areas:

(a) Development of manning policy for towing vessels operating on international and domestic waters,

(b) Information transfer between vessels using the Automatic Identification System (AIS), and

(c) Plans to improve Coast Guard Form 2692, REPORT OF MARINE ACCIDENT, INJURY OR DEATH.

(3) Public comment.

Public Participation

We have scheduled the last hour of the meeting, from 3 to 4 p.m., for oral comments from the public. If you wish to make an oral comment, please contact Mr. William J. Abernathy, listed in the FOR FURTHER INFORMATION CONTACT section, either before the meeting or at the meeting when the members of the audience are requested to state their interest in commenting. We request that you limit your oral comments to 3 minutes. Please note that this public comment period may start before 3 p.m. if all other agenda items have been covered and may end before 4 p.m. if all of those wishing to comment have done so.

As indicated in the DATES and ADDRESSES sections, please contact Mr. Abernathy by January 7, 2013, if you wish to make a presentation. If you want to submit a written comment, please do so by January 7, 2013 using one of the methods indicated in the ADDRESSES section.

For information on facilities or services for individuals with disabilities or to request special assistance at the teleconference, please contact the individuals listed in the FOR FURTHER INFORMATION CONTACT section, as soon as possible.

Minutes

Minutes from the meeting will be available for public review and copying within 30 days following the meeting at the http://fido.gov/facadatabase/public.asp Web site. The meeting minutes may be accessed via this Web site by clicking “Explore Data” and typing “704” in the “Committee Quick Find” box. Once you have accessed the Committee page, click on the meetings tab and then the “View” button for the meeting dated January 16, 2013, to access the information for this meeting. Minutes and documents applicable for this meeting can also be found at an alternative site using the following web address: https://homeport.uscg.mil/tsac

Dated: December 20, 2012.
J.G. Lantz,
Director of Commercial Regulations and Standards.

[FR Doc. 2012-31135 Filed 12-26-12; 8:45 am]

BILLING CODE 9110-04-P